SMALL BUSINESS ADMINISTRATION

[License No. 04/04-0340]

Resolute Capital Partners Fund IV, L.P.; Notice Seeking Exemption Under Section 312 of the Small Business Investment Act, Conflicts of Interest

Notice is hereby given that Resolute Capital Partners IV, L.P., 20 Burton Hills Blvd., Suite 430, Nashville, TN 37215, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Resolute Capital Partners IV, L.P. proposes to provide loan and equity security financing to Power Design Holdings LLC, 2200 Ross Ave., Suite 4050, Dallas, TX 75201.

The financing is brought within the purview of § 107.730(a)(1) of the Regulations because Resolute Capital Partners III, L.P., an Associate of Resolute Capital Partners IV, L.P., owns more than ten percent of Power Design Holdings LLC and therefore this transaction is considered Financing an Associate. requiring prior SBA approval.

Notice is hereby given that any interested person may submit written comments on this transaction within fifteen days of the date of this publication to the Associate Administrator, Office of Investment and Innovation, U.S. Small Business Administration, 409 Third Street SW, Washington, DC 20416.

A. Joseph Shepard,
Associate Administrator for Office of Investment and Innovation.

[FR Doc. 2018-10792 Filed 5-18-18; 8:45 am]

BILLING CODE 8025-01-P